DEPARTMENT OF ENERGY

Federal Energy Regulatory Commission

[Docket No. EC04-160-000, et al.]

LG&E Roanoke Valley, L.P., et al.; Electric Rate and Corporate Filings

September 27, 2004.

The following filings have been made with the Commission. The filings are listed in ascending order within each docket classification.

1. LG&E Roanoke Valley L.P., Westmoreland-Roanoke Valley, L.P., Westmoreland-LG&E Partners

[Docket Nos. EC04-160-000 and ER93-734-001]

Take notice that on September 21, 2004, LG&E Roanoke Valley L.P. (LRV) and Westmoreland-Roanoke Valley, L.P. (WVR, together with LRV, Applicants) on behalf of themselves and on behalf of Westmoreland-LG&E Partners (Partnership) submitted an application pursuant to section 203 of the Federal Power Act for authorization of disposition of jurisdictional facilities whereby an affiliate of WVR will purchase LVR's 50 percent general partnership interest in the Partnership. The Partnership filed a notice of change in status. Partnership states that it owns the remaining 50 percent general partnership interest in the Partnership. Partnership also states that it owns two pulverized coal-fired cogeneration facilities with a combined generating capacity of approximately 210 MW in Weldon Township, near Roanoke Valley, North Carolina.

Comment Date: 5 p.m. eastern time on October 12, 2004.

2. Union Electric Company d/b/a AmerenUE

[Docket No. EC04-161-000]

Take notice that on September 22, 2004, Union Electric Company d/b/a AmerenUE (AmerenUE) filed with the Commission an application pursuant to section 203 of the Federal Power Act for authorization and approval of the sale of certain portions of its electric transmission facilities and related equipment to Citizens Electric Cooperative. AmerenUE states that it is a combination electric and gas public utility subject to the jurisdiction of the Commission. AmerenUE also states that it provides electric service within parts of the states of Missouri and Illinois and is subject to the jurisdictions of the utility regulatory commissions in both states. AmerenUE further states that it is a subsidiary of Ameren Corporation, a registered public utility holding company under the Public Utility Holding Company Act of 1935, as amended (PUHCA).

Comment Date: 5 p.m. eastern time on October 13, 2004.

3. Entergy Corporation, et al.

[Docket No. EC04-162-000]

Take notice that on September 23, 2004, Entergy Corporation, (Entergy) on behalf of itself, Entergy Asset Management, Inc. (EAM), Entergy Power Generation Corporation, Entergy Power Gas Operations Corporation, Entergy Power Development Corporation, EP Edegel, Inc., Entergy UK Enterprises Limited, Entergy Global Investments, Inc., Entergy International Holdings Ltd LLC, EK Holding I, LLC and Entergy Power International Holdings Corporation (collectively, the Applicants) submitted an application requesting all necessary authorizations under section 203 of the Federal Power Act for the Applicants to engage in a corporate reorganization that will alter the upstream ownership of certain facilities subject to the Commission's jurisdiction and for a third-party investor to acquire indirect interests in jurisdictional facilities through acquisition of interests in EAM.

Entergy states that copies of this filing have been served on the Arkansas Public Service Commission, the Louisiana Public Service Commission, the City Council of New Orleans, the Mississippi Public Service Commission, and the Texas Public Utility Commission.

Comment Date: 5 p.m. eastern time on October 14, 2004.

4. Entergy Services, Inc.

[Docket Nos. ER04-699-000 and ER03-1272-002]

Take notice that on September 23, 2004, Entergy Services, Inc. (Entergy), on behalf of Entergy Arkansas, Inc., Entergy Gulf States, Inc., Entergy Louisiana, Inc., Entergy Mississippi, Inc., and Entergy New Orleans, Inc., filed a response to the Post Technical Conference Data Request issued on August 17, 2004 in the above-captioned proceedings.

Comment Date: 5 p.m. eastern time on October 14, 2004.

5. Dynegy Power Marketing, Inc.

[Docket No. ER04-1223-001]

Take notice that on September 22, 2004, Dynegy Power Marketing, Inc. (Dynegy) pursuant to section 205 of the Federal Power Act (FPA), 16 U.S.C. 824d, and part 35 of the Commission's regulations, 18 CFR part 35, submitted for filing amended rate schedules implementing provisions for sales of market-based ancillary services (Market-Based Ancillary Services Tariff). Dynegy states that this amended Rate Schedule was originally submitted September 10, 2004, in compliance with the Commission's order issued July 29, 2004, in Ameren Corporation, 108 FERC ¶ 61,094. Dynegy submitted for filing revisions to its tariff implementing the Market Behavior Rules, Investigation of Terms and Conditions of Public Utility Market-Based Rate Authorizations, 105 FERC ¶ 61,218 (2003) (Market Behavior Rules Tariff). Dynegy also states that this filing does not reflect further substantive changes, but is ministerial in nature, reflecting both the requested tariff change and a subsequently filed tariff change. Dynegy requests an effective date of January 1, 2005, for the Market-Based Ancillary Services Tariffs, and December 17, 2003, for the Market Behavior Rules Tariffs.

Comment Date: 5 p.m. eastern time on October 13, 2004.

6. Florida Power & Light Company

[Docket No. ER04-1237-000]

Take notice that on September 23, 2004, Florida Power & Light Company (FPL) submitted a Macedonia Temporary Tap Connection Agreement between Florida Power & Light Company and Georgia Transmission Corporation designated as FPL Rate Schedule No. 302. FPL states that the Macedonia Temporary Tap Connection Agreement provides Georgia Transmission Corporation with an alternative temporary connection capability, which will permit Georgia Transmission Corporation time to plan and construct additional facilities to enable it to directly serve two distribution substations, Macedonia and St. George, in the event that the current radial connection is out of service for any reason. FPL further states that the Agreement provides a temporary connection at the Macedonia substation on an as-needed and as-available basis until Georgia Transmission Corporation plans and constructs permanent facilities.

FPL states that copies of the filing were served upon the Georgia Transmission Corporation.

Comment Date: 5 p.m. eastern time on October 14, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2484 Filed 10-4-04; 8:45 am]

BILLING CODE 6717-01-P